DEPARTMENT OF TRANSPORTATION

National Highway Traffic Safety Administration

[Docket No. NHTSA-2001-8677; Notice 5]

Public Meeting on Early Warning Reporting Procedures; Correction

AGENCY: National Highway Traffic Safety Administration (NHTSA), Department of Transportation.

ACTION: Notice; correction.

SUMMARY: NHTSA published a document in the Federal Register of August 29, 2002, concerning a public meeting to discuss the manner in which Early Warning Reporting (EWR) information will be submitted to, and retained by, the agency. That document contained an error in the DATES caption, i.e., the day of the week for the public meeting was incorrect.

FOR FURTHER INFORMATION CONTACT: Julia Goldson at (202) 366-9944 or at jgoldson@nhtsa.dot.gov.

Correction

In the Federal Register of August 29, 2002, in FR Doc. 02-22081, on page 55448, in the second column, correct the DATES caption to read:

DATES: The Agency's public meeting relating to EWR data submission will be held on Tuesday, September 24, 2002, beginning at 10 a.m. in Room 2230 of the United States Department of Transportation, 400 Seventh St., SW., (NASSIF Building), Washington, DC 20590.

Issued on: September 3, 2002.
Kenneth N. Weinstein,
Associate Administrator for Enforcement.

[FR Doc. 02-22936 Filed 9-9-02; 8:45 am]

BILLING CODE 4910-59-P